ENVIRONMENTAL PROTECTION AGENCY

[FRL-9903-04-OCFO]

Draft FY 2014-2018 EPA Strategic Plan; Availability

AGENCY: Environmental Protection Agency (EPA).

ACTION: Notice of availability, request for public comments.

SUMMARY: The U.S. Environmental Protection Agency (EPA) is announcing the availability of the Draft FY 2014-2018 EPA Strategic Plan for public review and comment, as part of the periodic update required by the Government Performance and Results Act (GPRA) Modernization Act of 2010 (Pub. L. 111-352). The agency anticipates the final Strategic Plan will be submitted to Congress in February 2014. The Strategic Plan provides the Agency's long-term direction and strategies for advancing human health and the environment. For this notice, the EPA is seeking comment from individual citizens, states, tribes, local government, industry, the academic community, non-governmental organizations, and all other interested parties. The agency is particularly interested in feedback addressing strategies contained in the goal narratives, cross-cutting fundamental strategies, and strategic measures. The agency made targeted revisions to our existing Plan that seek to advance efforts to address our changing climate, protect our precious water and land resources, and advance chemical safety. The Plan seeks to outline how EPA will make a visible difference in communities across the country by advancing sustainability, innovation and providing sound scientific advice, technical and compliance assistance and other tools that support states, tribes, cities, towns, rural communities, and the private sector. Under this Plan, EPA will continue to improve the way we do business, engaging closely with our public sector partners at all levels and the regulated community to achieve environmental benefits in the most pragmatic, collaborative, and flexible way possible—for our children and future generations.

In addition, the EPA is proposing new FY 2014-2015 Agency Priority Goals—a key component of the Administration's performance management system—to align more closely with our highest priorities, including improving the health of communities across the country and tackling the issue of climate change.

DATES: Comments must be received on or before January 3, 2014.

ADDRESSES: Submit your comments, identified by Docket ID No. EPA-HQ-OA-2013-0555, by one of the following methods (electronic submission preferred):

Electronic: Federal eRulemaking Portal: http://www.regulations.gov. Follow the on-line instructions for submitting comments.

Fax: ATTN: Vivian Daub, Director, Planning Staff, Fax number: (202) 564-1808.

Mail: ATTN: Vivian Daub, Director, Planning Staff, Office of Planning, Analysis, and Accountability (Mail Code 2723A), Office of the Chief Financial Officer, U.S. Environmental Protection Agency, 1200 Pennsylvania Ave. NW., Washington, DC 20460.

Important: Please allow a minimum of two weeks from date postmarked to allow ample time for receipt.

FOR FURTHER INFORMATION CONTACT: Vivian Daub, Director, Planning Staff, Office of Planning, Analysis, and Accountability, Office of the Chief Financial Officer, ocfoinfo@epa.gov.

Instructions: EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/dockets/.

SUPPLEMENTARY INFORMATION:

Background

The GPRA Modernization Act holds federal agencies accountable for using resources wisely and achieving program results. Specifically, the GPRA Modernization Act requires agencies to develop: Strategic Plans, which include a mission statement, set out long-term goals, objectives, and strategic measures, and describe strategies to achieve them over a four-year time horizon; Annual Performance Plans, which provide annual performance measures and activities toward the long-term Strategic Plan; and, Annual Performance Reports, which evaluate an agency's success in achieving the annual performance measures.

The Draft FY 2014-2018 EPA Strategic Plan reflects the Administrator's themes for advancing EPA's mission. The Plan presents five strategic goals to accelerate protection of human health and the environment and four cross-cutting fundamental strategies for changing the way the agency does business in achieving its results. The five strategic goals are: Addressing Climate Change and Improving Air Quality; Protecting America's Waters; Cleaning Up Communities and Advancing Sustainable Development; Ensuring the Safety of Chemicals and Preventing Pollution; and Protecting Human Health and the Environment by Enforcing Laws and Assuring Compliance. The four cross-cutting fundamental strategies are: Working Toward a Sustainable Future; Working to Make a Visible Difference in Communities; Launching a New Era of State, Tribal, Local, and International Partnerships; and Embracing EPA as a High-Performing Organization. The Strategic Plan also identifies a suite of strategic measures by which the agency will hold itself accountable.

Maryann Froehlich,
Acting Chief Financial Officer, Office of the Chief Financial Officer.

[FR Doc. 2013-27676 Filed 11-18-13; 8:45 am]

BILLING CODE 6560-50-P